SECURITIES AND EXCHANGE COMMISSION

[Release No. 34-44128; File No. SR-NSCC-01-03]

Self-Regulatory Organizations; National Securities Clearing Corporation; Notice of Filing and Immediate Effectiveness of Proposed Rule Change Relating to Fees Charged for Services Relating to the Insurance Processing Service

March 28, 2001.

Pursuant to Section 19(b)(1) of the Securities Exchange Act of 1934 (“Act”¹), notice is hereby given that on January 26, 2001, National Securities Clearing Corporation (“NSCC”) filed with the Securities and Exchange Commission (“Commission”) the proposed rule change as described in Items I, II, and III below, which items have been prepared primarily by NSCC. The Commission is publishing this notice to solicit comments on the proposed rule change from interested parties.

¹ 15 U.S.C. 78s(b)(1).

I. Self-Regulatory Organization's Statement of the Terms of Substance of the Proposed Rule Change

The proposed rule change consists of revisions to NSCC's Fee Schedule for various services that are part of NSCC's Insurance Processing Service (“IPS”).

II. Self-Regulatory Organization's Statement of the Purposes of, and Statutory Basis for, the Proposed Rule Change

In its filing with the Commission, NSCC included statements concerning the purpose of and basis for the proposed rule change and discussed any comments it received on the proposed rule change. The text of these statements may be examined at the places specified in Item IV below. NSCC has prepared summaries, set forth in sections (A), (B), and (C) below, of the most significant aspects of these statements.²

² The Commission has modified the text of the summaries prepared by NSCC.

(A) Self-Regulatory Organization's Statement of the Purposes of, and Statutory Basis for, the Proposed Rule Change

The purpose of the proposed rule change is to adjust the fees that NSCC charges for various services that are part of NSCC's IPS effective with respect to services provided on and after February 1, 2001.

The transaction fee for the full Position service of IPS is currently $0.60 per 1,000 positions and the transaction fee for the focused position service of IPS is currently $0.50 per 1,000 positions. Pursuant to this rule change, the transaction fee for both the full position and focused position services of IPS will be as follows: from 0 to 49,999 positions per month, $6.00 per 1,000 positions; from 50,000 to 249,999 positions per month, $5.00 per 1000 positions; from 250,000 to 999,999 positions per month; $4.00 per 1,000 positions; and for more than 999,999 positions per month, $2.00 per 1,000 positions.

There is currently no transaction fee for the asset pricing service of IPS. Pursuant to this rule change, the transaction fee for the asset pricing service of IPS will be as follows: from 0 to 49,999 items per month, $0.75 per 1,000 items; from 50,000 to 249,999 items per month, $0.65 per 1,000 items, from 250,000 to 999,999 items per month, $0.55 per 1,000 items; for more than 999,999 items per month, $0.45 per 1,000 items.

The transaction fee for the commissions service of IPS is currently $8.50 per 1,000 items. Pursuant to this rule change, the transaction fee for the commissions service of IPS will be as follows: from 0 to 999 items per month, $40.00 per 1,000 items; from 1,000 to 9,999 items per month, $35.00 per 1,000 items; from 10,000 to 29,999 items per month, $30,00 per 1,000 items; for more than 29,999 items per month, $25.00 per 1,000 items.

The proposed rule change is consistent with the requirements of the Act and the rules and regulations thereunder because it provides for the equitable allocation of dues, fees, and other charges among NSCC's participants.

(B) Self-Regulatory Organization's Statement on Burden on Competition

NSCC does not believe that the proposed rule change will have an impact on or impose a burden on competition.

(C) Self-Regulatory Organization's Statement on Comments on the Proposed Rule Change Received From Members, Participants or Others

No written comments relating to the proposed rule change have been solicited or received. NSCC has sent letters to participants who use IPS communicating the fee changes. NSCC will notify the Commission of any written comments received by NSCC.

III. Date of Effectiveness of the Proposed rule Change and Timing for Commission Action

The foregoing rule change has become effective pursuant to Section 19(b)(3)(A)(ii) of the Act and Rule 19b-4(f)(2) thereunder because the proposed rule changes a due, fee, or other charge. At any time within sixty days of the filing of such rule change, the Commission may summarily abrogate such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Persons making written submissions should file six copies thereof with the Secretary, Securities and Exchange Commission, 450 Fifth Street, NW., Washington, DC 20549-0609. copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 450 Fifth Street, NW., Washington, DC 20549. Copies of such filing also will be available for inspection and copying at the principal office of NSCC. All submissions should refer to File No. SR-NSCC-01-03 and should be submitted by April 25, 2001.

For the Commission by the Division of Market Regulation, pursuant to delegated authority.

Margaret H. McFarland,
Deputy Secretary.

[FR Doc. 01-8210 Filed 4-3-01; 8:45 am]

BILLING CODE 8010-01-M